DEPARTMENT OF COMMERCE

International Trade Administration

[A-421-815, A-455-806, A-469-825]

Certain Preserved Mushrooms From the Netherlands, Poland, and Spain: Antidumping Duty Orders

AGENCY: Enforcement and Compliance, International Trade Administration, Department of Commerce.

SUMMARY: Based on affirmative final determinations by the U.S. Department of Commerce (Commerce) and the U.S. International Trade Commission (ITC), Commerce is issuing antidumping duty orders on certain preserved mushrooms (preserved mushrooms) from the Netherlands, Poland, and Spain.

DATES: Applicable May 23, 2023.

FOR FURTHER INFORMATION CONTACT: Alex Cipolla at (202) 482-4956 (the Netherlands), Eliza DeLong at (202) 482-3878 (Poland), or Katherine Johnson at (202) 482-4929 (Spain), AD/CVD Operations, Enforcement and Compliance, International Trade Administration, U.S. Department of Commerce, 1401 Constitution Avenue NW, Washington, DC 20230.

SUPPLEMENTARY INFORMATION:

Background

In accordance with sections 735(d) and 777(i) of the Tariff Act of 1930, as amended (the Act), on March 27, 2023, Commerce published its affirmative final determinations in the less-than-fair-value (LTFV) investigations of preserved mushrooms from the Netherlands, Poland, and Spain.¹ On May 11, 2023, the ITC notified Commerce of its final determinations, pursuant to section 735(d) of the Act, that an industry in the United States is materially injured within the meaning of section 735(b)(1)(A)(i) of the Act by reason of LTFV imports of preserved mushrooms from the Netherlands, Poland, and Spain.²

¹ See Certain Preserved Mushrooms from the Netherlands: Final Affirmative Determination of Sales at Less Than Fair Value, 88 FR 18115 (March 27, 2023); Certain Preserved Mushrooms from Poland: Final Affirmative Determination of Sales at Less Than Fair Value, 88 FR 18118 (March 27, 2023); and Certain Preserved Mushrooms from Spain: Final Affirmative Determination of Sales at Less Than Fair Value, 88 FR 18120 (March 27, 2023).

² See ITC Notification Letter, Investigation Nos. 731-TA-1588-1590 (Final), dated May 11, 2023 (ITC Notification Letter); see also Certain Preserved Mushrooms from the Netherlands, Poland, and Spain, 88 FR 31522 (May 17, 2023).

Scope of the Orders

The products covered by these orders are certain preserved mushrooms from the Netherlands, Poland, and Spain. For a complete description of the scope of these orders, see the appendix to this notice.

Antidumping Duty Orders

On May 11, 2023, in accordance with section 735(d) of the Act, the ITC notified Commerce of its final determinations in these investigations, in which it found that an industry in the United States is materially injured by reason of imports of preserved mushrooms from the Netherlands, Poland, and Spain.³ Therefore, in accordance with sections 735(c)(2) and 736 of the Act, Commerce is issuing these antidumping duty orders. Because the ITC determined that imports of preserved mushrooms from the Netherlands, Poland, and Spain are materially injuring a U.S. industry, unliquidated entries of such merchandise from the Netherlands, Poland, and Spain, entered or withdrawn from warehouse for consumption, are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of preserved mushrooms from the Netherlands, Poland, and Spain. With the exception of entries occurring after the expiration of the provisional measures period and before publication of the ITC's final affirmative injury determinations, as further described below, antidumping duties will be assessed on unliquidated entries of preserved mushrooms from the Netherlands, Poland, and Spain, entered, or withdrawn from warehouse, for consumption, on or after November 3, 2022, the date of publication of the Preliminary Determinations.⁴

⁴ See Certain Preserved Mushrooms from the Netherlands: Preliminary Affirmative Determination of Sales at Less Than Fair Value, Postponement of Final Determination, and Extension of Provisional Measures, 87 FR 66265 (November 3, 2022); Certain Preserved Mushrooms from Poland: Preliminary Affirmative Determination of Sales at Less Than Fair Value, Postponement of Final Determination, and Extension of Provisional Measures, 87 FR 66273 (November 3, 2022); and Certain Preserved Mushrooms from Spain: Preliminary Affirmative Determination of Sales at Less Than Fair Value, Postponement of Final Determination, and Extension of Provisional Measures, 87 FR 66262 (November 3, 2022) (collectively, Preliminary Determinations).

Continuation of Suspension of Liquidation and Cash Deposits

Except as noted in the “Provisional Measures” section of this notice, in accordance with section 736 of the Act, Commerce will instruct CBP to continue to suspend liquidation on all relevant entries of preserved mushrooms from the Netherlands, Poland, and Spain. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed in the tables below. The all-others rate applies to all producers or exporters not specifically listed, as appropriate.⁵ Because the estimated weighted-average dumping margin is zero for subject merchandise produced and exported by Prochamp B.V., entries of shipments of subject merchandise from this producer/exporter combination are excluded from the antidumping duty order on subject merchandise from the Netherlands. These exclusions will not be applicable to merchandise exported to the United States by these respondents in any other producer/exporter combination or by third parties that sourced subject merchandise from the excluded producer/exporter combinations.

⁵ As noted below, merchandise produced and exported by Prochamp B.V. is excluded from the Netherlands order. Therefore, the all-others rate applies to entries of any merchandise produced by Prochamp B.V. and exported by any other company or merchandise produced by any other company and exported by Prochamp B.V.

Estimated Weighted-Average Dumping Margins

The estimated weighted-average dumping margins are as follows:

⁶ Merchandise produced and exported by Prochamp B.V. is excluded from the Netherlands order. This exclusion does not apply to merchandise produced by Prochamp B.V. and exported by any other company or merchandise produced by any other company and exported by Prochamp B.V. Resellers of merchandise produced by Prochamp B.V. are also not entitled to this exclusion.

Producer/exporter | Estimated weighted- average dumping margin (percent)
The Netherlands
Okechamp B.V | 146.59
Prochamp B.V | ⁶ 0.00
All Others | 132.97
Poland
Okechamp S.A | 34.32
Bonduelle Polska-UL.Michala | 57.22
Bonduelle Polska SA | 57.22
All Others | 34.32
Spain
Eurochamp S.A.T | 156.59
Riberebro Integral S.A.U | 156.59
All Others | 59.59

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of preserved mushrooms from the Netherlands, Poland, and Spain, Commerce extended the four-month period to six months in each of these investigations. Commerce published the preliminary determinations in these investigations on November 3, 2022.⁷

⁷ Id.

The extended provisional measures period, beginning on the date of publication of the Preliminary Determinations, ended on May 1, 2023. Therefore, in accordance with section 733(d) of the Act and our practice,⁸ Commerce will instruct CBP to terminate the suspension of liquidation and to liquidate, without regard to antidumping duties, unliquidated entries of preserved mushrooms from the Netherlands, Poland, and Spain entered or withdrawn from warehouse, for consumption after May 1, 2023, the final day on which the provisional measures were in effect, until and through the day preceding the date of publication of the ITC's final affirmative injury determinations in the Federal Register. Suspension of liquidation and the collection of cash deposits will resume on the date of publication of the ITC's final determinations in the Federal Register.

⁸ See, e.g., Certain Corrosion-Resistant Steel Products from India, India, the People's Republic of China, the Republic of Korea and Taiwan: Amended Final Affirmative Antidumping Determination for India and Taiwan, and Antidumping Duty Orders, 81 FR 48390, 48392 (July 25, 2016).

Establishment of the Annual Inquiry Service Lists

On September 20, 2021, Commerce published the Final Rule in the Federal Register.⁹ On September 27, 2021, Commerce also published the Procedural Guidance in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹¹

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

¹¹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹³ the new annual inquiry service list will be in place until the following year, when the Opportunity Notice for the anniversary month of the order is published. Commerce may update an annual inquiry service list at any time as needed based on interested parties' amendments to their entries of appearance to remove or otherwise modify their list of members and representatives, or to update contact information. Any changes or announcements pertaining to these procedures will be posted to the ACCESS website at https://access.trade.gov.

¹³ See Procedural Guidance, 86 FR at 53206.

Special Instructions for Petitioners and Foreign Governments

In the Final Rule, Commerce stated that, “after an initial request and placement on the annual inquiry service list, both petitioners and foreign governments will automatically be placed on the annual inquiry service list in the years that follow.” ¹⁴ Accordingly, as stated above, the petitioner and Governments of the Netherlands, Poland, and Spain should submit their initial entries of appearance after publication of this notice in order to appear in the first annual inquiry service lists for these orders. Pursuant to 19 CFR 351.225(n)(3), the petitioner and the Governments of the Netherlands, Poland, and Spain will not need to resubmit their entries of appearance each year to continue to be included on the annual inquiry service list. However, the petitioner and the Governments of the Netherlands, Poland, and Spain are responsible for making amendments to their entries of appearance during the annual update to the annual inquiry service list in accordance with the procedures described above.

¹⁴ See Final Rule, 86 FR at 52335.

Notification to Interested Parties

This notice constitutes the antidumping duty orders with respect to preserved mushrooms from the Netherlands, Poland, and Spain pursuant to section 736(a) of the Act. Interested parties can find a list of antidumping duty orders currently in effect at http://enforcement.trade.gov/stats/iastats1.html.

These antidumping duty orders are published in accordance with sections 735(e) and 736(a) of the Act and 19 CFR 351.224(e) and 19 CFR 351.211(b).

Dated: May 17, 2023.
Lisa W. Wang,
Assistant Secretary for Enforcement and Compliance.

Appendix—Scope of the Orders

The merchandise covered by these orders are certain preserved mushrooms, whether imported whole, sliced, diced, or as stems and pieces. The preserved mushrooms covered under these orders are the genus Agaricus. “Preserved mushrooms” refer to mushrooms that have been prepared or preserved by cleaning, blanching, and sometimes slicing or cutting. These mushrooms are then packed and heat sterilized in containers each holding a net drained weight of not more than 12 ounces (340.2 grams), including but not limited to cans or glass jars, in a suitable liquid medium, including but not limited to water, brine, butter, or butter sauce. Preserved mushrooms may be imported whole, sliced, diced, or as stems and pieces.

Excluded from the scope are “marinated,” “acidified,” or “pickled” mushrooms, which are prepared or preserved by means of vinegar or acetic acid, but may contain oil or other additives. To be prepared or preserved by means of vinegar or acetic acid, the merchandise must be a minimum 0.5 percent by weight acetic acid.

The merchandise subject to these orders is classifiable under subheadings 2003.10.0127, 2003.10.0131, and 2003.10.0137 of the Harmonized Tariff Schedule of the United States (HTSUS). The subject merchandise may also be classified under HTSUS subheadings 2003.10.0143, 2003.10.0147, and 2003.10.0153. Although the HTSUS subheadings are provided for convenience and customs purposes, the written description of the merchandise under the orders is dispositive.

[FR Doc. 2023-10939 Filed 5-22-23; 8:45 am]

BILLING CODE 3510-DS-P